DEPARTMENT OF THE TREASURY

Alcohol and Tobacco Tax and Trade Bureau

27 CFR Part 24

[Docket No. TTB-2016-0010; Notice No. 164A; Re: Notice No. 164]

RIN 1513-AB61

Wine Treating Materials and Related Regulations; Comment Period Reopening

AGENCY: Alcohol and Tobacco Tax and Trade Bureau, Treasury.

ACTION: Notice of proposed rulemaking; reopening of comment period.

SUMMARY: The Alcohol and Tobacco Tax and Trade Bureau (TTB) is reopening for an additional 90 days the comment period for Notice No. 164, Wine Treating Materials and Related Regulations, a notice of proposed rulemaking published in the Federal Register on November 22, 2016. TTB is taking this action in response to requests from wine industry members and trade associations.

DATES: The comment period for the proposed rule published on November 22, 2016 (81 FR 83752) is reopened for 90 days. Written comments on Notice No. 164 are now due on or before January 9, 2018.

ADDRESSES: Please send your comments on Notice No. 164 to one of the following addresses:

• Internet: https://www.regulations.gov (via the online comment form for Notice No. 164 as posted within Docket No. TTB-2016-0010 at Regulations.gov, the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 400, Washington, DC 20005.

See the Public Participation section of Notice No. 164 for specific instructions and requirements for submitting comments, and for information on how to request a public hearing.

You may view copies of this document, Notice No. 164, and any comments made to TTB about the described proposals at https://www.regulations.gov within Docket No. TTB-2016-0010. A link to that docket is posted on the TTB Web site at https://www.ttb.gov/wine/wine-rulemaking.shtml under Notice No. 164. You also may view copies of this document, Notice No. 164, and any comments made to TTB about the described proposals by appointment at the TTB Information Resource Center, 1310 G Street NW., Washington, DC 20005. Please call (202) 453-2270 to make an appointment.

FOR FURTHER INFORMATION CONTACT: Kara Fontaine, Regulations and Rulings Division, Alcohol and Tobacco Tax and Trade Bureau, 1310 G Street NW., Box 12, Washington, DC 20005; phone (202) 453-1039, ext. 103.

SUPPLEMENTARY INFORMATION: In Notice No. 164, a notice of proposed rulemaking published in the Federal Register on November 22, 2016 (81 FR 83752), the Alcohol and Tobacco Tax and Trade Bureau (TTB) requested public comment on amendments to its regulations pertaining to the production of wine and in particular in regard to the permissible treatments that may be applied to wine and to juice from which wine is made. TTB issued the proposed amendments in response to requests from wine industry members to authorize certain wine treating materials and processes not currently authorized by TTB regulations. In Notice No. 164, TTB invited comments on the proposed regulatory changes and the wine treatments and materials issues addressed in that document. The 60-day comment period for Notice No. 164 originally closed on January 23, 2017.

On December 27, 2016, TTB received a letter from the Wine Institute, a large wine industry trade association based in San Francisco, California, requesting a six-month extension of the comment period on the wine treating materials and other regulatory amendments proposed in Notice No. 164. In its letter, the Wine Institute stated that its members required additional time to consider the “complex, highly technical proposal” contained in Notice No. 164, as well as the document's request for input on other regulatory issues. The Wine Institute also noted that TTB's proposal was published during the busy holiday season, and that it required additional time to reach out to its members and other wine industry trade associations to discuss how best to respond to Notice No. 164. The Wine Institute letter is posted as Comment 3 to Notice No. 164 within Docket No. TTB-2016-0010 on the Regulations.gov Web site at https://www.regulations.gov. In addition, TTB received one comment supporting the Wine Institute's request for an extension of the comment period (see Comment 4).

On January 9, 2017, TTB received a letter from Laffort USA, a producer of wine treating materials, which also requested a six-month extension of the comment period for Notice No. 164. In its letter, Laffort USA noted the proposed rulemaking requested comments “on many other topics of great relevance to the U.S. wine industry,” and that it the comment period “covered the entire holiday season.” The Laffort USA letter is posted as Comment 5 to Notice No. 164 within Docket No. TTB-2016-0010 on the Regulations.gov Web site at https://www.regulations.gov.

In response to these requests, TTB is reopening the comment period for Notice No. 164 for an additional 90 days. TTB notes that the wine treating materials discussed in the regulatory amendments in Notice No. 164 have been previously approved administratively for use by wine industry members in the treatment of their wine. TTB believes that a 90-day reopening of the comment period for Notice No. 164 will allow all interested parties to fully consider the regulatory amendments proposed in that document.

Therefore, comments on Notice No. 164 are now due to TTB on or before January 9, 2018. Comments on Notice No. 164 may be submitted as described above in the ADDRESSES section of this document.

Drafting Information

Michael Hoover of the Regulations and Rulings Division drafted this document.

Signed: September 28, 2017.
John J. Manfreda,
Administrator.

[FR Doc. 2017-21809 Filed 10-10-17; 8:45 am]

BILLING CODE 4810-31-P